DEPARTMENT OF THE INTERIOR

Fish and Wildlife Service

[FWS-HQ-FAC-2016-N011]; [FF09F42300-FVWF97920900000-XXX]

Sport Fishing and Boating Partnership Council; Call for Nominations

AGENCY: Fish and Wildlife Service, Interior.

ACTION: Notice.

SUMMARY: The Secretary of the Interior (Secretary) and Director of the Fish and Wildlife Service (Director) seek nominations for individuals to be considered for membership in the Sport Fishing and Boating Partnership Council (Council). The Council advises the Secretary, through the Director, on aquatic conservation endeavors that benefit recreational fishery resources and recreational boating and that encourage partnerships among industry, the public, Native American tribes, States, and the Federal Government.

DATES: Written nominations must be postmarked by Thursday, March 31, 2016.

ADDRESSES: Please address nomination letters to Mr. Daniel Ashe, Director, U.S. Fish and Wildlife Service. Mail nominations to: Brian Bohnsack, Designated Federal Officer and Coordinator, Sport Fishing and Boating Partnership Council, U.S. Fish and Wildlife Service, 5275 Leesburg Pike, Mailstop 3C016A-FAC, Falls Church, VA 22041-3803.

FOR FURTHER INFORMATION CONTACT: Brian Bohnsack, at the above address, via email at brian_bohnsack@fws.gov, or by telephone at (703) 358-2435.

SUPPLEMENTARY INFORMATION: The Secretary and Director seek nominations for individuals to be considered for membership in the Sport Fishing and Boating Partnership Council (Council). The Council advises the Secretary, through the Director, on aquatic conservation endeavors that benefit recreational fishery resources and recreational boating and that encourage partnerships among industry, the public, Native American tribes, States, and the Federal government. Members terms are not staggered, and the current Council members' terms expire June 3, 2016. The Secretary will appoint members for 2-year terms that will run from 2016 to 2018.

Council Duties

The Council conducts its operations in accordance with the provisions of the Federal Advisory Committee Act (5 U.S.C. App.). It reports to the Secretary of the Interior through the Director of the Fish and Wildlife Service. The Council functions solely as an advisory body. The duties of the Council include:

a. Providing advice that will assist the Secretary in carrying out the authorities of the Fish and Wildlife Act of 1956.

b. Fulfilling responsibilities established by Executive Order 12962:

(1) Monitoring specific Federal activities affecting aquatic systems and the recreational fisheries they support.

(2) Reviewing and evaluating the relation of Federal policies and activities to the status and conditions of recreational fishery resources.

c. Recommending policies or programs to increase public awareness and support for the Sport Fish Restoration and Boating Trust Fund.

d. Recommending policies or programs that foster conservation and ethics in recreational fishing and boating.

e. Recommending policies or programs to stimulate angler and boater participation in the conservation and restoration of aquatic resources through outreach and education.

f. Advising how the Secretary can foster communication and coordination among government, industry, anglers, boaters, and the public.

Council Makeup

The Council consists of no more than 18 members, appointed for 2-year terms, which are not staggered. Members must be senior-level representatives of their organizations and/or have the ability to represent their designated constituency. The Secretary will select discretionary members from among the national interest groups listed below.

a. State fish and wildlife resource management agencies (two members: One a Director of a coastal State, and one a Director of an inland State);

b. Saltwater and freshwater recreational fishing organizations;

c. Recreational boating organizations;

d. Recreational fishing and boating industries;

e. Recreational fishery resources conservation organizations;

f. Tribal resource management organizations;

g. Aquatic resource outreach and education organizations; and

h. Tourism industry.

Nomination Method and Eligibility

Nominations should include a resume providing an adequate description of the nominee's qualifications, including information that would enable the Department of the Interior to make an informed decision regarding meeting the membership requirements of the Committee and permit the Department to contact a potential member. Current members can be renominated and reappointed to the Council. Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Dated: February 3, 2016.
Stephen Guertin,
Deputy Director.

[FR Doc. 2016-05934 Filed 3-15-16; 8:45 am]

BILLING CODE 4333-15-P